Proclamation 10613 of August 31, 2023

National Prostate Cancer Awareness Month, 2023

By the President of the United States of America

A Proclamation

This year alone, more than 280,000 Americans will be diagnosed with prostate cancer. During National Prostate Cancer Awareness Month, we honor the lives ended too soon and all those we can still save by redoubling our efforts to end cancer as we know it.

When someone is diagnosed with prostate cancer, every second counts. But patients are too often left advocating for basic care while drowning in a flood of medical information. Even when treatment is available, some struggle to afford it or insurance may not cover it. And stark inequities exist: Black men are more than twice as likely to die from prostate cancer in this country than other men.

Our Nation must do more to change that. Last year, the First Lady and I reignited the Cancer Moonshot, setting an ambitious new goal to cut America's cancer death rate by at least half over the next 25 years, turning more cancers from death sentences into treatable diseases and improving support for patients and families. I worked with the Congress to establish the Advanced Research Projects Agency for Health, securing $2.5 billion in bipartisan funding to develop breakthroughs in preventing, diagnosing, and treating cancer and other deadly diseases and pioneering partnerships to get those breakthroughs out to clinics and patients. We are making lifesaving cancer care more affordable for millions of Americans, expanding coverage through Medicaid and the Affordable Care Act, and helping many who had received relief during the pandemic to keep saving $800 a year on insurance premiums. The Inflation Reduction Act will soon cap total out-of-pocket prescription drug costs for seniors on Medicare at $2,000 a year—including for expensive cancer medicines—which could save some prostate cancer patients up to $6,000 a year.

We are also working to make sure prevention, detection, and treatment procedures are available to patients of all communities and backgrounds. The National Institutes of Health is continuing expansive research into environmental and genetic factors to better understand why prostate cancer disproportionately affects Black men. In response to our Cancer Moonshot, the Department of Veterans Affairs expanded its National Precision Oncology Program to better tailor treatments to individual veterans. And we know that screening matters: Experts recommend that men with a higher risk of cancer—based on race or ethnicity, family history, or other factors—discuss it with their doctors.

Everyone's journey with cancer is different, but the First Lady and I know how hard it can be on the whole family. To all those caring for loved ones with prostate cancer and all those facing it themselves, we stand with you. My Administration is working around the clock on breakthroughs that can bring hope and more choices to the fight against this disease.

NOW, THEREFORE, I, JOSEPH R. BIDEN JR., President of the United States of America, by virtue of the authority vested in me by the Constitution and the laws of the United States, do hereby proclaim September 2023 as National Prostate Cancer Awareness Month. I encourage citizens, government agencies, private businesses, nonprofit organizations, and other interested groups to join in activities that will increase awareness of what Americans can do to prevent and cure prostate cancer.

IN WITNESS WHEREOF, I have hereunto set my hand this thirty-first day of August, in the year of our Lord two thousand twenty-three, and of the Independence of the United States of America the two hundred and forty-eighth.

[FR Doc. 2023-19329

Filed 9-5-23; 8:45 am]

Billing code 3395-F3-P